DEPARTMENT OF THE INTERIOR

Bureau of Reclamation

Walker River Basin Acquisitions Program, Mineral, Lyon, and Douglas Counties, NV

AGENCY: Bureau of Reclamation, Interior.

ACTION: Notice of intent to prepare an environmental impact statement (EIS) and notice of public scoping meetings.

SUMMARY: Pursuant to the National Environmental Policy Act (NEPA), the Bureau of Reclamation (Reclamation) proposes to prepare an EIS for the Walker River Basin Acquisitions Program. The primary purpose of the program is to comply with the requirements of Public Law 107-171 (Desert Terminal Lakes Program), which appropriates funds to provide water to at-risk natural desert terminal lakes, and with Public Law 109-103, which allocates funds to the University of Nevada for two specific purposes. The first purpose is to implement a program for environmental restoration to acquire from willing sellers land, water appurtenant to the land, and related interests in the Walker River Basin, Nevada. Acquired water rights would be transferred to provide water to Walker Lake. The second purpose of the University's funding is to establish and operate an agricultural and natural resources center. The actions to be analyzed in this EIS will be the purchase of water rights and related interests from willing sellers in the Walker River Basin, Nevada.

DATES: A series of public scoping meetings will be held to solicit public input on the alternatives, concerns, and issues to be addressed in the EIS. The meetings dates are:

• Monday, October 22, 2007, 6 to 8 p.m., Reno, NV

• Tuesday, October 23, 2007, 6 to 8 p.m., Yerington, NV

• Wednesday, October 24, 2007, 6 to 8 p.m., Hawthorne, NV

• Thursday, October 25, 2007, 6 to 8 p.m., Bridgeport, CA

Written comments on the scope of the EIS should be sent by November 26, 2007.

ADDRESSES: The public scoping meetings locations are:

• Reno at Rancho San Rafael Park, Main Ranch House, 1595 N. Sierra Street

• Yerington at Yerington High School, gymnasium, 114 Pearl Street

• Hawthorne at Mineral County Public Library, meeting room, 110 1st Street

• Bridgeport at Bridgeport Memorial Hall, 73 N. School Street

Send comments on the scope of the EIS to Mrs. Caryn Huntt DeCarlo, Bureau of Reclamation, 705 N. Plaza Street, Room 320, Carson City, NV 89701, via e-mail to chunttdecarlo@mp.usbr.gov, or faxed to 775-884-8376.

FOR FURTHER INFORMATION CONTACT: Mrs. Huntt DeCarlo, 775-884-8352.

SUPPLEMENTARY INFORMATION: The project area is in the Walker River Basin within Nevada, and includes both the East and West Walker Rivers. The goal of the program is to acquire water rights sufficient to increase the long-term average annual inflow to Walker Lake by up to 50,000 acre-feet. To increase Walker Lake inflows by up to 50,000 acre-feet annually may require acquiring more than 50,000 acre-feet of water rights due to annual hydrologic variability.

Special Assistance for Public Scoping Meeting

If special assistance is required at the scoping meetings, please contact Caryn Huntt DeCarlo at 775-884-8352, TDD 775-882-3436, or via e-mail at chunttdecarlo@mp.usbr.gov. Please notify Mrs. Huntt DeCarlo as far in advance of the meetings as possible to enable Reclamation to secure the needed services. If a request cannot be honored, the requestor will be notified. A telephone device for the hearing impaired (TDD) is available at 775-882-3436.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: August 21, 2007.
Susan M. Fry,
Regional Environmental Officer, Mid-Pacific Region.

[FR Doc. E7-18738 Filed 9-21-07; 8:45 am]

BILLING CODE 4310-MN-P